FEDERAL ACCOUNTING STANDARDS ADVISORY BOARD

Notice of Issuance of Federal Financial Accounting Technical Release 18, Implementation Guidance for Establishing Opening Balances

AGENCY: Federal Accounting Standards Advisory Board.

ACTION: Notice.

Pursuant to 31 U.S.C. 3511(d), the Federal Advisory Committee Act (Pub. L. 92-463), as amended, and the FASAB Rules Of Procedure, as amended in October 2010, notice is hereby given that the Federal Accounting Standards Advisory Board (FASAB) has issued Federal Financial Accounting Technical Release (TR) 18, Implementation Guidance for Establishing Opening Balances.

The Technical Release is available on the FASAB Web site at http://www.fasab.gov/accounting-standards/. Copies can be obtained by contacting FASAB at (202) 512-7350.

FOR FURTHER INFORMATION CONTACT: Ms. Wendy M. Payne, Executive Director, 441 G Street NW., Mailstop 6H19, Washington, DC 20548, or call (202) 512-7350.

Authority: Federal Advisory Committee Act, Pub. L. 92-463.

Dated: October 2, 2017.
Wendy M. Payne,
Executive Director.

[FR Doc. 2017-21593 Filed 10-5-17; 8:45 am]

BILLING CODE 1610-02-P